DEPARTMENT OF THE INTERIOR

Fish and Wildlife Service

[FWS-R3-ES-2009-N0002;30120-1113-0000-F6]

Endangered and Threatened Wildlife and Plants; Permit Applications

AGENCY: Fish and Wildlife Service, Interior.

ACTION: Notice of availability of permit applications; request for comments.

SUMMARY: The following applicants have applied for permits to conduct certain activities with endangered species.

DATES: We must receive written comments on or before March 16, 2009.

ADDRESSES: Send written comments to the Regional Director, Attn: Peter Fasbender, U.S. Fish and Wildlife Service, Ecological Services, 1 Federal Drive, Fort Snelling, MN 55111-4056; electronic mail, permitsR3ES@fws.gov.

FOR FURTHER INFORMATION CONTACT: Peter Fasbender (612) 713-5343.

SUPPLEMENTARY INFORMATION:

Endangered Species

The Endangered Species Act of 1973, as amended (16 U.S.C. 1531 et seq.) (Act), with some exceptions, prohibits activities affecting endangered species unless authorized by a permit from the Fish and Wildlife Service. Before issuing a permit, we invite public comment on it. Accordingly, we invite public comment on the following applicants' permit applications for certain activities with endangered species authorized by section 10(a)(1)(A) of the Act and the regulations governing the taking of endangered species (50 CFR 17). Submit your written data, comments, or request for a copy of the complete application to the address shown in ADDRESSES.

Permit Number: TE113009

Applicant: Steven A. Ahlstedt, Norris, Tennessee.

The applicant requests renewal and amendment of his permit to take White Cat's Paw (Epioblasma sulcata perobliqua) and Purple Cat's Paw (Epioblasma obliquata obliquata) pearlymussel within the States of Ohio and Indiana. Amendment is requested to add the geographic area of Indiana in conjunction with renewal of the permit term. Proposed activities are to carry out presence/absence surveys, assess habitat characteristics, collect and translocate specimens, and to participate in otherwise legal reintroduction efforts aimed at enhancement of survival of the species in the wild.

Permit Number: TE105320.

Applicant: Tragus Environmental Consulting, Inc., Akron, Ohio.

The applicant requests a permit renewal and minor amendment to take Indiana bats (Myotis sodalis) and Gray bats (Myotis grisescens) throughout the States of Oklahoma, Illinois, Indiana, Iowa, Michigan, Missouri, Ohio, Alabama, Arkansas, Georgia, Kentucky, Mississippi, North Carolina, South Carolina, Tennessee, Maryland, New Jersey, New York, Pennsylvania, Vermont, Virginia, and West Virginia. The activities proposed involve capture using mist nets and bat traps, handling, tagging, tissue sampling, and release. A minor amendment has been requested to identify additional qualified individuals to work under the authority of this permit. Data obtained under this permit will be used to assist with development of project design features aimed at enhancement of survival of the species in the wild.

Permit Number TE049738

Applicant: Third Rock Consultants, Lexington, Kentucky.

The applicant requests a renewal and minor amendment to a permit to take Indiana bats (Myotis sodalis), Gray bats (Myotis grisescens), Virginia big eared bats (Corynorhinus townscendii virginiaus), and Ozark big eared bats (Corynorhinus townscendii ingens). The renewal request also includes endangered mussels, fish, and the American burying beetle (Nicrophorus americanus). The applicant's projects are in the States of Alabama, Florida, Georgia, Iowa, Illinois, Indiana, Kentucky, Michigan, Missouri, Mississippi, North Carolina, Ohio, South Carolina, and Tennessee. Ongoing studies that are proposed to continue under this permit include presence/absence surveys, studies to document habitat use, population monitoring, and the evaluation of potential impacts of proposed projects. Activities are proposed for enhancement of the survival of the species in the wild.

Permit Number TE809227

Applicant: BHE Environmental, Cincinnati, Ohio.

The applicant requests renewal and amendment of a permit to take Indiana bats (Myotis sodalis), Gray bats (Myotis grisescens), and fish and mussel species throughout the ranges of the species within Regions 2-6 of the U.S. Fish and Wildlife Service. The ongoing studies that are proposed under this permit include presence/absence surveys, studies to document habitat use, population monitoring, and evaluation of potential impacts of proposed projects. Activities are proposed for enhancement of the survival of the species in the wild.

Permit Number TE831774

Applicant: U.S. Geological Survey, St. Paul, Minnesota.

The applicant requests a permit renewal to take gray wolf (Canis lupis) throughout the continental United States. Proposed activities include capture, immobilization, radio tracking, implantation of isotopes, health assessment, and salvage of dead specimens. The long-term scientific research allowed under this permit is aimed at enhancement of recovery and survival of the species in the wild.

Permit Number TE106220

Applicant: Brianne L. Walters, Terre Haute, Indiana.

The applicant requests a permit renewal to take Indiana bats (Myotis sodalis) and Gray bats (Myotis grisescens) within the States of Indiana, Illinois, and Ohio. The ongoing studies that are proposed under this permit include presence/absence surveys, studies to document habitat use, population monitoring, and evaluation of potential impacts of proposed projects. Activities are proposed to enhance the survival of the species in the wild.

Permit Number TE839763

Applicant: John O. Whitaker, Indiana State University, Terre Haute, Indiana.

The applicant requests a permit renewal to take Indiana bats (Myotis sodalis) and Gray bats (Myotis grisescens) throughout the range of the species. Ongoing studies include presence/absence surveys, studies to document habitat use, population monitoring, health assessment, and evaluation of project impacts. The applicant seeks to continue ongoing scientific research aimed at recovery and enhancement of the survival of the species in the wild.

Permit Number 809630

Applicant: Dr. Allen Kurta, Eastern Michigan University, Ypsilanti, Michigan.

The applicant requests a permit renewal to take Indiana bats (Myotis sodalis) throughout Michigan, Illinois, Indiana, and Ohio. Ongoing studies include presence/absence surveys, studies to document habitat use, population monitoring, health assessment, and evaluation of project impacts. The applicant seeks to continue ongoing scientific research aimed at recovery and enhancement of the survival of the species in the wild.

Permit Number TE839777

Applicant: Don R. Helms, Bellevue, Iowa.

The applicant requests a permit renewal to take (capture and release) Clubshell (Pleurobema clava), Northern riffleshell (Epioblasma torulosa rangiana), Orange-footed pimpleback pearlymussel (Plethobasus cooperianus), Pink mucket pearlymussel (Lampsilis orbiculata), Rough pigtoe (Pleurobema plenum), Purple cat's paw pearlymussel (Epioblasma obliquata obliquata), White cat's paw pearlymussel (Epioblasma obliquata perobliqua), Fanshell (Cyporgenia stegaria), Fat pocketbook (Potamilus capax), Higgins' eye pearlymussel (Lampsilis higginsi), Winged mapleleaf (Quadrula fragosa), Scaleshell (Leptodea leptodon), and Topeka shiner (Notropis topeka). Proposed activities include presence/absence surveys, relocation of specimens to avoid harm, and studies to document habitat use and population health. Proposed activities are aimed at enhancement of the survival of the species in the wild.

Public Comments

We solicit public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the activities proposed in these permits are categorically excluded from the requirement to prepare an environmental assessment or environmental impact statement (516 DM6 Appendix 1, 1.4C(1)).

Dated: February 5, 2009.
Lynn M. Lewis,
Assistant Regional Director, Ecological Services, Region 3.

[FR Doc. E9-2982 Filed 2-11-09; 8:45 am]

BILLING CODE 4310-55-P